DEPARTMENT OF STATE

[Public Notice 4286]

Determination Pursuant to Section 1(b) of Executive Order 13224 Relating to the Riyadus-Salikhin Reconnaissance and Sabotage Battalion of Chechen Martyrs, the Special Purpose Islamic Regiment, and the Islamic International Brigade

Acting under the authority of section 1(b) of Executive Order 13224 of September 23, 2001, as amended by Executive Order 13286 of July 2, 2002, and Executive Order 13284 of January 23, 2003, and in consultation with the Secretary of the Treasury, the Attorney General, and the Secretary of Homeland Security, I hereby determine that:

1. The Riyadus-Salikhin Reconnaissance and Sabotage Battalion of Chechen Martyrs (a.k.a. Riyadus-Salikhin Reconnaissance and Sabotage Battalion, a.k.a. Riyadh-as-Saliheen, a.k.a. the Sabotage and Military Surveillance Group of the Riyadh al-Salihin Martyrs, a.k.a. Riyadus-Salikhin Reconnaissance and Sabotage Battalion of Shahids (Martyrs));

2. The Special Purpose Islamic Regiment (a.k.a. the Islamic Special Purpose Regiment, a.k.a. the al-Jihad-Fisi-Sabililah Special Islamic Regiment, Islamic Regiment of Special Meaning); and

3. The Islamic International Brigade (a.k.a. the Islamic Peacekeeping Brigade, a.k.a. the Islamic Peacekeeping Army, a.k.a. the International Brigade, a.k.a. Peacekeeping Battalion, a.k.a. International Battalion, a.k.a. Islamic Peacekeeping International Brigade), have committed, or pose a significant risk of committing, acts of terrorism that threaten the security of U.S. nationals or the national security, foreign policy, or economy of the United States.

Consistent with the determination in section 10 of Executive Order 13224 that “prior notice to persons determined to be subject to the Order who might have a constitutional presence in the United States would render ineffectual the blocking and other measures authorized in the Order because of the ability to transfer funds instantaneously,” I determine that no prior notice need be provided to any person subject to this determination who might have a constitutional presence in the United States because to do so would render ineffectual the measures authorized in the Order.

This notice shall be published in the Federal Register.

Dated: February 14, 2003.
Colin L. Powell,
Secretary of State, Department of State.

[FR Doc. 03-4781 Filed 2-27-03; 5:00 pm]

BILLING CODE 4710-10-P